DEPARTMENT OF HOUSING AND URBAN DEVELOPMENT

[Docket No. FR-5130-N-33]

Privacy Act; Notification of the Establishment of a New Systems of Records, Nonprofit Data Management System

AGENCY: Office of the Chief Information Officer, HUD.

ACTION: Establishment of a new Privacy Act System of Records, Nonprofit Data Management System.

SUMMARY: The Department of Housing and Urban Development (HUD) proposes to establish a new record system to add to its inventory of systems of records subject to the Privacy Act of 1974 (5 U.S.C. 552a), as amended. The proposed new system of record is the Single Family Nonprofit Data Management System (NPDMS) developed by the Office of Single Family Housing. NPDMS will be used as an automated we-based tool used to manage the Nonprofit program activities. The application will be used to improve the application, recertification, and reporting process for organizations that participate in HUD Federal Housing Administration (FHA) Nonprofit Program activities and will be used to assist HUD staff with the daily administration of these programs.

DATES: Effective Date: This action shall be effective without further notice on November 20, 2008 unless comments are received that would result in a contrary determination.

Comments Due Date: November 20, 2008.

ADDRESSES: Interested persons are invited to submit comments regarding this notice to the Rules Docket Clerk, Office of General Counsel, Room 10276, Department of Housing and Urban Development, 451 Seventh Street, SW., Washington, DC 20410. Communications should refer to the above docket number and title. A copy of each communication submitted will be available for public inspection and copying between 8 a.m. and 5 p.m. weekdays at the above address.

FOR FURTHER INFORMATION CONTACT: Donna Robinson-Staton, Departmental Privacy Act Officer, Department of Housing and Urban Development, 451 Seventh St., SW., Room 4178, Washington, DC 20410, Telephone Number (202) 402-8073. (This is not a toll-free number.) A telecommunication device for hearing- and speech-impaired individuals (TTY) is available at 1-800-877-8339 (Federal Information Relay Service).

SUPPLEMENTARY INFORMATION: Pursuant to the Privacy Act of 1974 (5 U.S.C. 552a), as amended, notice is given that HUD proposes to establish a new system of records as identified as the NPDMS.

Title 5 U.S.C. 552a(e)(4) and (11) provide that the public be afforded a 30-day period in which to comment on the new system of records, and require published notice of the existence and character of the system of records.

The new system report was submitted to the Office of Management and Budget (OMB), the Senate Committee on Governmental Affairs, and the House Committee on Government Reform pursuant to paragraph 4c of Appendix 1 to OMB Circular No. A-130, “Federal Agency Responsibilities for Maintaining Records About Individuals,” July 25, 1994; 59 FR 37914.

Authority: 5 U.S.C. 552a 88 Stat. 1896; 342 U.S.C. 3535(d).

Dated: October 10, 2008.
Lisa Schlosser,
Chief Information Officer.

HUD/HS-60

System Name:

Nonprofit Data Management System.

System Location:

The system is located on the UAI (contractor's server). UAI is located at 307 Wynn Drive, NW., Huntsville, Alabama 35805-1960.

Categories of Individuals Covered by the System:

The system maintains information on Government Entities, Nonprofit Organizations, Nonprofit board members and key staff and homebuyers who purchase HUD (REO) homes from Nonprofits and Government Entities participating in the program.

Categories of Records in the System:

Business Documentation (IRS Letters for Determination of Nonprofit Status, Articles of Organization; Mortgage Notes, W-9/SAMS-1111), Property Report Documentation ( HUD-9548 Sales Contract, HUD-1 Settlement Statement-Purchase, HUD-1 Settlement Statement-Resale, and Median Income Certification) and limited information about the homebuyers; such as, their name, and address, SSN and race/ethnicity characteristics.

Authority for Maintenance of the System:

Housing and Urban Development 24 CFR part 200.194 (Part 200—Introduction to FHA Programs)—Placement of Nonprofit Organization on Nonprofit Organization Roster.

Purposes:

NPDMS is an automated web-based program management tool designed to improve the application, recertification, and reporting process for organizations that participate in the Office of Single Family Housing (OSFH) activities and to assist HUD staff with the daily administration of FHA's Nonprofit Program activities. HUD maintains a roster of nonprofit organizations that are qualified to participate in certain specified FHA activities. In order to be recognized as a nonprofit organization for purposes of single family regulations in this chapter, an organization must: (1) Be included in the Roster; and (2) Comply with any requirements stated in a specific applicable provision of the single family regulations in this chapter. To be included in the Roster, a nonprofit organization must apply to HUD using an application (or materials) in a form prescribed by HUD (which may require an affordable housing program narrative for the activities the nonprofit organization proposes to carry out). The nonprofit organization must specify in its application the FHA activities it proposes to carry out. FHA, through its four Homeownership Centers (HOCs), receives application and recertification packages as well as annual reports from organizations that participate in OSFH activities such as purchasing HUD/Real Estate Owned (REO) homes at a discount, providing secondary financing in conjunction with FHA-insured mortgages, and securing FHA loans as the Mortgagor.

In the past, participating organizations had to submit the required documents in paper form to FHA. To ease the burden of creating documents, printing them, and mailing them to the HOC, FHA has developed NPDMS. NPDMS will serve as a new means for industry clients to submit data required by FHA.

NPDMS collects, stores and provides web-based access to participants' application and property activity data. This property data includes limited information on homebuyers that purchase HUD-REO properties. The system enhances FHA's ability to manage an organization's program activities from initial application/re-certification through the entire life cycle of program activities. Additionally, NPDMS enables participating organizations to: (1) Submit required property reports on-line; and (2) access Geographic Information System (GIS) capability and data on HUD-REO properties that are eligible for purchase.

The records maintained in the system are used by HUD staff to: (1) Verify an agency's eligibility to participate in the program; (2) to validate that no conflicts of interest exists amongst board members, employees, business partners, and homebuyers; (3) to validate that discounted HUD-REO homes were sold to eligible buyers; and (4) to determine that participating agencies have not exceeded profit limits on the re-sale of HUD-REO homes purchased through the discount program. However, because Government entities do not need approval to participate in the program they are not required to submit any business documentation or documentation on any governing boards or key staff. Government entities are required to submit property reports documenting the purchase and sell of REO discount properties.

Routine uses of records maintained in the system, including categories of users and the purposes of such uses:

There are no external disclosures made from the system only adhoc reports are generated internal to HUD. These reports do not include any personal/sensitive information.

Policies and practices for storing, retrieving, accessing, retaining, and disposing of records in the systems:

Storage:

Data is stored in NPDMS which is on UAI's server. Data is also backed up nightly with copies of data tapes stored in a secure location for disaster recovery.

Retrievability:

Agency records can be retrieved by selecting an agency's name from the drop down list. Under the agency's file the viewer can see an agency's tax payer ID, board members and key staff names and partial social security numbers (the system maintains social security numbers but they are not fully visible); homebuyer information can be retrieved by selecting a REO case file number. The system maintains homebuyer's name, address, race and social security number.

Safeguards:

UAI further secures the system as part of their normal best practices review of all services. Best practices for software include:

• Review of all security controls.

• Obtain and apply SSL Certificates.

• Review URLs to ensure use of HTTPS.

• Store passwords in non-human readable format.

• Inspect all SQL queries to prevent SQL injection attacks.

Server systems are in a secured location with coded key entry for restricted access that has been inspected and approved by HUD. The Public HUD site hosted by UAI is in separate domain from non-profit data management service hosted by UAI. Data is backed up nightly with copies stored in a secure location for disaster recovery. Encryption and hashing techniques are applied to Public Housing information.

Retention and disposal:

Records are maintained for 3 years after they are no longer active then they are sent to the Records Center to be archived and destroyed according departmental policy.

System manager(s) and address:

Ruth Roman, Division Director of Program Support, Office of Single Family Housing , 451 7th Street, SW., Washington, DC 20410.

Notification Procedures:

For information, assistance, or inquiry about the existence of records, contact the Privacy Act Officer at the Department of Housing and Urban Development, 451 7th Street, SW., Washington, DC. Written requests must include the full name, Social Security Number, date of birth, current address, and telephone number of the individual making the request.

Contesting record procedures:

Procedures for the amendment or correction of records, and for applicants wanting to appeal initial agency determination, appear in 24 CFR part 16. If additional information is needed, contact:

(i) In relation to contesting contents of records, the Departmental Privacy Act Officer at HUD, 451 Seventh Street, SW., Room 2256, Washington, DC 20410; and

(ii) In relation to appeals of initial denials, HUD, Departmental Privacy Appeals Officer, Office of General Counsel, 451 Seventh Street, SW., Washington, DC 20410.

Record source categories:

Information is received from Nonprofit Organizations, Government Entities and homebuyers purchasing homes from participating agencies.

Exemptions from certain provisions of the Act:

None.

[FR Doc. E8-24939 Filed 10-20-08; 8:45 am]

BILLING CODE 4210-67-P